DEPARTMENT OF DEFENSE

Department of the Army

[Docket ID USA-2009-0029]

Privacy Act of 1974; System of Records

AGENCY: Department of the Army, DoD.

ACTION: Notice to alter a system of records.

SUMMARY: The Department of the Army is proposing to alter a system of records in its existing inventory of records systems subject to the Privacy Act of 1974, (5 U.S.C. 552a), as amended.

DATES: The proposed action will be effective on November 12, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Leroy Jones, (703) 428-6185.

SUPPLEMENTARY INFORMATION: The Department of the Army systems of records notices subject to the Privacy Act of 1974, (5 U.S.C. 552a), as amended, have been published in the Federal Register and are available from the address under ADDRESSES.

The proposed system report, as required by 5 U.S.C. 552a(r) of the Privacy Act of 1974, as amended, was submitted on October 1, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 1, 2009.
Patricia L. Toppings,
OSD Federal Register Liaison Officer, Department of Defense.

A0870-5 DAMH

System name:

Army History Files (March 6, 2003, 68 FR 10706).

Changes:

System ID:

Delete entry and replace with “A0870-5 AAMH”

* * * * *

System location:

Delete entry and replace with “U.S. Army Center of Military History, Headquarters, Department of the Army, Washington, DC 20310-0200.

Decentralized segments exist at historical offices at Headquarters, Department of the Army and field operating agencies, major commands, and the U.S. Army Military Historical Research Collection, Carlisle Barracks, PA 17013-5021; U.S. Army Center of Military History, 103 3rd Street, Fort McNair, Washington, DC 20318-5058; U.S. Army Heritage and Education Center, Soldiers Drive, Carlisle, PA 17013-5021; National Museum of the United States Army, 6030 Goethals Road, Fort Belvoir, VA 22060-6205. Official mailing addresses are published as an appendix to the Army's compilation of systems of records notices.”

Categories of individuals covered by the system: Delete entry and replace with “Military and civilian personnel associated with the Army; individuals who offer historically significant items or gifts of money to the Army Museum System; and individuals who respond to the Army's World War II, Korean War, Vietnam War Era, Cold War Era, and Post Cold War Era Service Survey Questionnaire.”

Categories of records in the system:

Delete entry and replace with “Individuals name, military status, biographical resumes and personal working files of U.S. Army personnel; personal papers donated by individuals for historical research; photographs of Army personages; requests for historical documents regarding U.S. Army activities and responses thereto; copy of donor's proffer of gift agreement and correspondence with donor regarding status and/or location of donation(s). Questionnaires and associated historical items received by the U.S. Army Military History Institute under its Veteran Survey Program. Associated historical items may include, but not limited to, audiotapes, books, camp/unit newspapers, diaries, documents, films, memoirs, and artifacts.”

Authority for maintenance of the system:

Delete entry and replace with “10 U.S.C. 3013, Secretary of the Army; 16 U.S.C. 470, National Historic Preservation Act; and Army Regulation 870-5, Military History: Responsibilities, Policies and Procedures.”

Purpose(s):

Delete entry and replace with “To provide a record of donations and contributions of historical property to U.S. Army Museums and historical holdings; to enable Army museums and historical holdings to provide upon request by the donor or donor's heirs, information concerning the status/location of his/her donation; to enable the Army to establish title to the property. World War II, Korean War, Vietnam War Era, Cold War Era, and Post Cold War Era Survey Questionnaires will be used to document recollections and opinions of veterans for historical studies of the U.S. Army.”

* * * * *

Notification procedure:

Delete entry and replace with “Individuals seeking to determine whether information about themselves is contained in this system should address written inquiries to the U.S. Army Center of Military History, 103 3rd Street, Fort McNair, Washington, DC 20318-5058.

Individual should provide full name and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the U.S. Army Center of Military History, 103 3rd Street, Fort McNair Washington, DC 20318-5058.

Individual should provide full name and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0870-5 AAMH

System name:

Army History Files.

System location:

U.S. Army Center of Military History, Headquarters, Department of the Army, Washington, DC 20310-0200. Decentralized segments exist at historical offices at Headquarters, Department of the Army and field operating agencies, major commands, and the U.S. Army Military Historical Research Collection, Carlisle Barracks, PA 17013-5021; U.S. Army Center of Military History, 103 3rd Street, Fort McNair, Washington, DC 20318-5058; U.S. Army Heritage and Education Center, Soldiers Drive, Carlisle, PA 17013-5021; National Museum of the United States Army, 6030 Goethals Road, Fort Belvoir, VA 22060-6205. Official mailing addresses are published as an appendix to the Army's compilation of systems of records notices.

Categories of individuals covered by the system:

Military and civilian personnel associated with the Army; individuals who offer historically significant items or gifts of money to the Army Museum System; and individuals who respond to the Army's World War II, Korean War, Vietnam War Era, Cold War Era, and Post Cold War Era Service Survey Questionnaire.

Categories of records in the system:

Individual's name, military status, biographical resumes and personal working files of U.S. Army personnel; personal papers donated by individuals for historical research; photographs of Army personages; requests for historical documents regarding U.S. Army activities and responses thereto; copy of donor's proffer of gift agreement and correspondence with donor regarding status and/or location of donation(s). Questionnaires and associated historical items received by the U.S. Army Military History Institute under its Veteran Survey Program. Associated historical items may include, but not limited to, audiotapes, books, camp/unit newspapers, diaries, documents, films, memoirs, and artifacts.

Authority for maintenance of the system:

10 U.S.C. 3013, Secretary of the Army; 16 U.S.C. 470, National Historic Preservation Act; and Army Regulation 870-5, Military History: Responsibilities, Policies and Procedures.

Purpose(s):

To provide a record of donations and contributions of historical property to U.S. Army Museums and historical holdings; to enable Army museums and historical holdings to provide upon request by the donor or donor's heirs, information concerning the status/location of his/her donation; to enable the Army to establish title to the property. World War II, Korean War, Vietnam War Era, Cold War Era, and Post Cold War Era Survey Questionnaires will be used to document recollections and opinions of veterans for historical studies of the U.S. Army.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Information from this system may be disclosed to a municipal corporation, a soldier's monument association, a State museum, an incorporated museum or exhibition operated and maintained for educational purposes only, a post of the Veterans of Foreign Wars or the American Legion, or other Federal museums upon donation or transfer of the historical property to one of those organizations.

The DoD `Blanket Routine Uses' set forth at the beginning of the Army's compilation of systems of records notices also apply to this system.

Policies and practices for storing, retrieving, accessing, retaining, and disposing of records in the system:

Storage:

Paper records in file folders, photographs, and on electronic media. Artifacts will be stored in a secure area.

Retrievability:

By individual's name.

Safeguards:

Records are maintained in secured areas accessible only to persons having need therefore in the performance of official duties.

Retention and disposal:

Permanent. Some historical material and photographs are retired to the Washington National Records Center when no longer needed; other such material is transferred to the Military History Research Collection at Carlisle Barracks, PA for preservation. Inquiries about historical events or persons, and responses thereto, are destroyed when no longer needed.

System manager(s) and address:

Chief, U.S. Army Center of Military History, 103 3rd Street, Fort McNair, Washington, DC 20318-5058.

Director, U.S. Army Heritage and Education Center, 22 Ashburn Drive, Carlisle, PA 17013-5008.

Notification procedure:

Individuals seeking to determine whether information about themselves is contained in this system should address written inquiries to the U.S. Army Center of Military History, 103 3rd Street, Fort McNair, Washington, DC 20318-5058.

Individual should provide full name and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking access to information about themselves contained in this system should address written inquiries to the U.S. Army Center of Military History, 103 3rd Street, Fort McNair Washington, DC 20318-5058.

Individual should provide full name and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, and for contesting contents and appealing initial agency determinations are contained in Army Regulation 340-21; 32 CFR part 505; or may be obtained from the system manager.

Record source categories:

From the individual, his/her Army record, official Army documents, public records.

Exemptions claimed for the system:

None.

[FR Doc. E9-24504 Filed 10-9-09; 8:45 am]

BILLING CODE 5001-06-P